DEPARTMENT OF THE TREASURY

Agency Information Collection Activities; Submission for OMB Review; Comment Request; Generic Clearance for the Collection of Qualitative Feedback on Agency Service Delivery.

AGENCY: Departmental Offices, U.S. Department of the Treasury

ACTION: Notice.

SUMMARY: The Department of the Treasury will submit the following information collection request to the Office of Management and Budget (OMB) for review and clearance in accordance with the Paperwork Reduction Act of 1995, on or after the date of publication of this notice. The public is invited to submit comments on these requests.

DATES: Comments must be received on or before November 12, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

United States Mint (Mint)

Title: Generic Clearance for the Collection of Qualitative Feedback on Agency Service Delivery.

OMB Control Number: 1525-0012.

Type of Review: Extension without change of a currently approved collection.

Description: The collection of information is necessary for the Mint to solicit customer and stakeholder feedback with respect to timeliness, appropriateness, accuracy of information, courtesy, efficiency of service delivery, and resolution of issues with service delivery. Responses will be assessed to plan and inform efforts to improve or maintain the quality of service offered to the public.

Affected Public: Businesses or other-for-profits; Non-profit institutions; State, Local, or Tribal Governments; and Individuals or Households.

Estimated Number of Respondents: 50,136.

Frequency of Response: On occasion.

Estimated Total Number of Annual Responses: 50,136.

Estimated Time per Response: 10 minutes up to 2 hours.

Estimated Total Annual Burden Hours: 75,000 hours.

Authority: 44 U.S.C. 3501 et seq.

Dated: October 7, 2021.
Molly Stasko,
Treasury PRA Clearance Officer.

[FR Doc. 2021-22257 Filed 10-12-21; 8:45 am]

BILLING CODE 4810-37-P